DEPARTMENT OF COMMERCE

National Oceanic and Atmospheric Administration

RIN 0648-PR-A004

Marine Mammals; File No. 23092

AGENCY: National Marine Fisheries Service (NMFS), National Oceanic and Atmospheric Administration (NOAA), Commerce.

ACTION: Notice; receipt of application.

SUMMARY: Notice is hereby given that C. Scott Baker, Ph.D., Oregon State University, Marine Mammal Institute, Hatfield Marine Science Center, 2030 SE Marine Science Drive, Newport, OR 97365, has applied in due form for a permit to receive, import, and export marine mammals specimens for scientific research.

DATES: Written, telefaxed, or email comments must be received on or before October 18, 2019.

ADDRESSES: The application and related documents are available for review by selecting “Records Open for Public Comment” from the “Features” box on the Applications and Permits for Protected Species (APPS) home page, https://apps.nmfs.noaa.gov, and then selecting File No. 23092 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Jennifer Skidmore or Shasta McClenahan, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The applicant requests a permit to receive, import, and export samples of marine mammal parts collected legally from any species of cetaceans and pinnipeds, except the walrus, for scientific research. The proposed research is intended to maximize the biological information gained from each sample and is expected to result in an improved understanding of the taxonomy, genetic diversity, population structure, abundance, and individual movement of marine mammals. The anticipated U.S. and foreign sources of samples include the following: Animals in captivity (samples taken during routine husbandry procedures or under separate authorization); animals in foreign countries stranded alive or dead or that died during rehabilitation; animals killed during legal subsistence hunting; animals killed incidental to legal commercial fishing operations; and samples from other authorized persons or collections. The total number of samples that will be received, imported, or exported will not exceed 5,000 individual cetaceans and 5,000 individual pinnipeds, annually. The requested period of the permit is five years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: September 13, 2019.
Julia Marie Harrison,
Chief, Permits and Conservation Division, Office of Protected Resources, National Marine Fisheries Service.

[FR Doc. 2019-20169 Filed 9-17-19; 8:45 am]

BILLING CODE 3510-22-P